FEDERAL EMERGENCY MANAGEMENT AGENCY

44 CFR Part 65

[Docket No. FEMA-7324]

Changes in Flood Elevation Determinations

AGENCY: Federal Emergency Management Agency (FEMA).

ACTION: Interim rule.

SUMMARY: This interim rule lists communities where modification of the base (1-percent-annual-chance) flood elevations is appropriate because of new scientific or technical data. New flood insurance premium rates will be calculated from the modified base flood elevations for new buildings and their contents.

DATES: These modified base flood elevations are currently in effect on the dates listed in the table and revise the Flood Insurance Rate Map(s) in effect prior to this determination for each listed community.

From the date of the second publication of these changes in a newspaper of local circulation, any person has ninety (90) days in which to request through the community that the Associate Director for Mitigation reconsider the changes. The modified elevations may be changed during the 90-day period.

ADDRESSES: The modified base flood elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in base flood elevations are in accordance with 44 CFR 65.4.

National Environmental Policy Act. This rule is categorically excluded from the requirements of 44 CFR part 10, Environmental Consideration. No environmental impact assessment has been prepared.

Regulatory Flexibility Act. The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
California:
Orange | City of Anaheim | January 20, 2000, January 27, 2000, Anaheim Bulletin | The Honorable Tom Daly, Mayor, City of Anaheim, P.O. Box 3222, Anaheim, California 92803 | January 13, 2000 | 060213
Orange | City of Irvine | January 31, 2000, February 7, 2000, Orange County Register | The Honorable Christina Shea, Mayor, City of Irvine, P.O. Box 19575, Irvine, California 92623-9575 | December 29, 1999 | 060222
Orange | City of Irvine | February 24, 2000, March 2, 2000, The Irvine World News | The Honorable Christina Shea, Mayor, City of Irvine, P.O. Box 195575, Irvine, California 92623-9575 | January 27, 2000 | 060222
Orange | City of Tustin | January 31, 2000, February 7, 2000, Orange County Register | Mr. Thomas Saltarelli, Mayor, City of Tustin, 300 Centennial Way, Tustin, California 92780 | December 29, 1999 | 060235
Los Angeles | City of Santa Clarita | February 17, 2000, February 24, 2000, The Signal | The Honorable Joanne Darcy, Mayor, City of Santa Clarita, 23920 Valencia Boulevard, Suite 300, Santa Clarita, California 91355 | January 18, 2000 | 060729
Colorado:
Arapahoe | Unincorporated Areas | February 10, 2000, February 17, 2000, The Villager | The Honorable Steve Ward, Chairman, Arapahoe County Board of Commissioners, 5334 South Prince Street, Littleton, Colorado 80166-0060 | May 17, 2000 | 080011
Boulder | City of Louisville | February 23, 2000, March 1, 2000, Louisville Times | The Honorable Tom Davidson, Mayor, City of Louisville, 749 Main Street, Louisville, Colorado 80027 | January 19, 2000 | 085076
Idaho:
Blaine | City of Bellevue | February 9, 2000, February 16, 2000, Wood River Journal | The Honorable Steve Fairbrother, Mayor, City of Bellevue, P.O. Box 449, Bellevue, Idaho 83313 | January 4, 2000 | 160021
Blaine | Unincorporated Areas | February 9, 2000, February 16, 2000, Wood River Journal | The Honorable Mary Ann Mix, Chairperson, Blaine County Board of Commissioners, 206 First Avenue South, Suite 300, Hailey, Idaho 83333 March 1, 2000 | January 4, 2000 | 165167
Kansas: Miami | City of Paola | February 23, 2000, March 1, 2000, Miami County Republic | The Honorable Floyd J. Grimes, Mayor, City of Paola, 19 East Teoria Paola, Kansas 66071 | May 30, 2000 | 200224
Nebraska: Colfax | Village of Howells | February 23, 2000, March 1, 2000, Howells Journal | The Honorable Larry Jakubowski, Chairperson, Village of Howells, Board of Commissioners, 128 North Third Street, Howells, Nebraska 68641-0351 | May 30, 2000 | 310380
Nevada: Clark | Unincorporated Areas | February 17, 2000, February 24, 2000, Las Vegas Review-Journal | The Honorable Bruce Woodbury, Chairperson, Clark County Board of Commissioners, P.O. Box 551601, Las Vegas, Nevada 89155 | January 7, 2000 | 320003
New Mexico:
Bernalillo | Unincorporated Areas | February 25, 2000, March 3, 2000, Albuquerque Journal | The Honorable Tom Rutherford, Chairperson, Board of County Commissioners, Bernalillo County, 2400 Broadway Southeast, Albuquerque, New Mexico 87102 | January 19, 2000 | 350001
Oklahoma:
Stephens | City of Duncan | February 7, 2000, February 14, 2000, The Duncan Banner | The Honorable Dennis Johnson, Mayor, City of Duncan, P.O. Box 969, Duncan, Oklahoma 73534 | December 29, 1999 | 400202
Tulsa | City of Tulsa | February 24, 2000, March 2, 2000, Tulsa World | The Honorable M. Susan Savage, Mayor, City of Tulsa, City Hall, 200 Civic Center, Tulsa, Oklahoma 74103 | May 31, 2000 | 405381
Texas:
Tarrant | City of Bedford | February 23, 2000, March 1, 2000, Fort Worth Star-Telegram | The Honorable Rick Hurt, Mayor, City of Bedford, 2000 Forest Ridge Drive, Bedford, Texas 76021 | January 24, 2000 | 480585
Bexar | Unincorporated Areas | February 15, 2000, February 22, 2000, San Antonio Express-News | The Honorable Cyndi Taylor Krier, Bexar County Judge, Bexar County Courthouse, 100 Dolorosa, Suite 101, San Antonio, Texas 78205-3036 | January 7, 2000 | 480035
Dallas | City of Carrolton | February 11, 2000, February 18, 2000, Metrocrest News | The Honorable Milburn Gravely, Mayor, City of Carrolton, P.O. Box 110535, Carrolton, Texas 75011-0535 | January 7, 2000 | 480167
Dallas | City of Dallas | February 7, 2000, February 14, 2000, Dallas Morning News | The Honorable Ron Kirk, Mayor, City of Dallas, City Hall, 1500 Marilla, Dallas, Texas 75201 | May 15, 2000 | 480171
Tarrant | City of Euless | February 23, 2000, March 1, 2000, Fort Worth Star-Telegram | The Honorable Mary Lib Saleh, Mayor, City of Euless, 201 North Ector Drive, Euless, Texas 76039 | January 24, 2000 | 480593
Tarrant | City of Fort Worth | February 29, 2000, March 7, 2000, Fort Worth Star-Telegram | The Honorable Kenneth Barr, Mayor, City of Fort Worth, City Hall, 1000 Throckmorton Street, Fort Worth, Texas 76102-6311 | January 24, 2000 | 480596
Tarrant | City of North Richland Hills | February 8, 2000, February 15, 2000, Fort Worth Star-Telegram | The Honorable Charles Scoma, Mayor, City of North Richland Hills, P.O. Box 820609, North Richland Hills, Texas 76182-0609 | January 11, 2000 | 480607
Tarrant | City of Saginaw | February 29, 2000, March 7, 2000, Fort Worth Star-Telegram | The Honorable Monte Nichols, Mayor, City of Saginaw, P.O. Box 79070, Saginaw, Texas 76179 | January 24, 2000 | 480610
Bexar | City of San Antonio | February 25, 2000, March 3, 2000, San Antonio Express-News | The Honorable Howard W. Peak, Mayor, City of San Antonio, P.O. Box 839966, San Antonio, Texas 78283-3966 | January 24, 2000 | 480045

(Catalog of Federal Domestic Assistance No. 83.100, “Flood Insurance”)
Dated: May 17, 2000.
Michael J. Armstrong,
Associate Director for Mitigation.

[FR Doc. 00-14295 Filed 6-6-00; 8:45 am]

BILLING CODE 6718-04-P